DEPARTMENT OF JUSTICE

Notice of Lodging of Consent Decree Under the Clean Water Act

Notice is hereby given that on August 11, 2011, a proposed Consent Decree in Environment Rhode Island et al. and the United States and Rhode Island v. City of Newport, Rhode Island, Civil Action No. 08-265S, was filed with the United States District Court for Rhode Island.

In this action, the United States and the other plaintiffs sought penalties and injunctive relief for the Defendant's violations of the Clean Water Act, 33 U.S.C. 1251 et seq., at its sewer system and water pollution control plant. To resolve the United States' claims, the Defendants will pay a penalty of $170,000, and will undertake extensive work to its sewer system and water pollution control plant to eliminate violations of the Clean Water Act.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to either: Environment Rhode Island et al. and the United States and Rhode Island v. City of Newport, Rhode Island, Civil Action No. 08-265S, or D.J. Ref. 90-5-1-1-09855. The Consent Decree may be examined at the Office of the United States Attorney, District of Rhode Island, Fleet Center, 50 Kennedy Plaza, 8th Floor, Providence, Rhode Island 02903, and at the United States Environmental Protection Agency, 5 Post Office Square, Suite 100, Boston, Massachusetts 02109. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check, payable to the U.S. Treasury, in the amount of $21.50 (25 cents per page reproduction cost), or, if by e-mail or fax, forward a check in the applicable amount to the Consent Decree Library at the stated address.

Ronald Gluck,
Assistant Chief, Environmental Enforcement Section, Environment and Natural Resources Division.

[FR Doc. 2011-20996 Filed 8-17-11; 8:45 am]

BILLING CODE 4410-15-P